DEPARTMENT OF HOUSING AND URBAN DEVELOPMENT

24 CFR Parts 5, 245, 882, 960, 966, and 982

[Docket No. FR-6362-N-02]

RIN 2501-AE08

Reducing Barriers to HUD-Assisted Housing; Withdrawal

AGENCY: U.S. Department of Housing and Urban Development (HUD).

ACTION: Proposed rule; withdrawal.

SUMMARY: This document informs the public that HUD has determined not to pursue the proposed rule previously published in the Federal Register on April 10, 2024, entitled “Reducing Barriers to HUD-Assisted Housing”. HUD will proceed to formally withdraw the rule from HUD's Spring 2025 Unified Agenda of Regulatory and Deregulatory Actions.

DATES: The proposed rule published at 89 FR 25332, April 10, 2024, is withdrawn as of January 16, 2025.

ADDRESSES: Department of Housing and Urban Development, 451 7th Street SW, Room 10282, Washington, DC 20410.

FOR FURTHER INFORMATION CONTACT: Aaron Santa Anna, Associate General Counsel for Legislation and Regulations, Office of Legislation and Regulations, Office of General Counsel, Department of Housing and Urban Development, 451 7th Street SW, Room 10282, Washington, DC 20410; telephone number (202) 402-5300 (this is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: On April 10, 2024 (89 FR 25332), HUD published a proposed rule in the Federal Register entitled “Reducing Barriers to HUD-Assisted Housing” that proposed to amend the regulations for certain HUD Public and Indian Housing and Housing programs that govern admission for applicants with criminal records or a history of involvement with the criminal justice system and eviction or termination of assistance of persons on the basis of illegal drug use, drug-related criminal activity, or other criminal activity.

The Department has determined to withdraw the proposed rule at this time and to terminate this rulemaking proceeding. HUD does not intend for a final rule to be issued on this NPRM. If, in the future, HUD decides it is appropriate to issue regulations on this topic, HUD will do so via a new notice of proposed rulemaking, subject to the requirements of the Administrative Procedure Act, 5 U.S.C. 551, et seq. and 24 CFR part 10.

HUD's Withdrawal of Proposed Rule

Accordingly, HUD will proceed to formally withdraw the following proposed rule from its Spring 2025 Unified Agenda of Regulatory and Deregulatory Actions: Reducing Barriers to HUD-Assisted Housing (89 FR 25332, April 10, 2024) (RIN 2501-AE08). HUD's Unified Agenda of Regulatory and Deregulatory Actions is available on Reginfo.gov and can be accessed at https://www.reginfo.gov/public/do/eAgendaMain.

Benjamin Klubes,
Acting General Counsel.

[FR Doc. 2025-00996 Filed 1-15-25; 8:45 am]

BILLING CODE 4210-67-P